DEPARTMENT OF AGRICULTURE

Food Safety and Inspection Service

[Docket No. 00-001N]

Codex Alimentarius Commission: Thirty-Second Session of the Codex Committee on Food Additives and Contaminants

AGENCY: Food Safety and Inspection Service, USDA.

ACTION: Notice of Public meeting; request for comment.

SUMMARY: The Office of the Under Secretary for Food Safety, and the Food Safety and Inspection Service (FSIS), United States Department of Agriculture, and the Food and Drug Administration (FDA) are sponsoring a public meeting on February 4, 2000. The purpose of the meeting is to provide information and receive public comment on agenda items that will be discussed at the Thirty-second Session of the Codex Committee on Food Additives and Contaminants (CCFAC), which will be held in Beijing, China on March 20-24, 2000.

DATES: The public meeting is scheduled for Friday, February 4, 2000, from 1:30 p.m. to 3:00 p.m.

ADDRESSES: The public meeting will be held in Room 1409, FOB 8, 200 C. St. S.W., Washington, DC. Documents referenced in this notice can be reviewed at the FSIS Docket Clerk's office, U.S. Department of Agriculture, Food Safety and Inspection Service, Room 102, Cotton Annex, 300 12th Street, SW, Washington, DC 20250-3700. The documents will also be accessible via the World Wide Web at the following address: http://www.fao.org/waicent/faoinfo/economic/esn/codex/ccfac32/Fa00—01e.htm. Send an original and two copies of comments to the FSIS Docket Clerk, Docket #00-001N, to the above address. All comments submitted in response to this notice will be available for public inspection in the FSIS Docket Clerk's office between 8:30 a.m. and 4:30 p.m., Monday through Friday.

FOR FURTHER INFORMATION CONTACT: Patrick J. Clerkin, Associate U.S. Manager for Codex, U.S. Codex Office, Food Safety and Inspection Service, Room 4861, South Building, 1400 Independence Avenue S.W., Washington, DC 20250, Telephone: (202) 205-7760, Fax: (202) 720-3157.

SUPPLEMENTARY INFORMATION:

Background

Codex was established in 1962 by two United Nations organizations, the Food and Agriculture Organization and the World Health Organization. Codex is the principal international organization for protecting the health and economic interests of consumers and encouraging fair international trade in food. Through adoption of food standards, codes of practice, and other guidelines developed by its committees, and by promoting their adoption and implementation by governments, Codex seeks to ensure that the world's food supply is sound, wholesome, free from adulteration, and correctly labeled.

The CCFAC establishes or endorses maximum or guideline levels for individual food additives, for contaminants (including environmental contaminants), and for naturally occurring toxicants in foodstuffs and animal feeds. In addition, the Committee prepares priority lists of food additives and contaminants for toxicological evaluation by the Joint FAO/WHO Expert Committee on Food Additives; recommends specifications of identity and purity for food additives for adoption by the Commission; considers methods of analysis for their determination in food; and considers and elaborates standards or codes for related subjects such as the labeling of food additives when sold as such and food irradiation. The Netherlands chairs the committee.

Issues To Be Discussed at the Public Meeting

The following lists the provisional agenda items that will be discussed during the public meeting on February 4, 2000:

1. Adoption of the Agenda.

2. Matters referred by the Codex Alimentarius Commission and other Codex Committees.

3. Summary Report of the 53rd Meeting of the Joint FAO/WHO Expert Committee on Food Additives (JECFA).

4. Action Required as a Result of Changes in Acceptable Daily Intake Status and other Toxicological Recommendations.

5. Discussion Paper on the Application of Risk Analysis Principles for Food Additives and Contaminants.

Food Additives

1. Endorsement and/or Revision of Maximum Levels for Food Additives in Codex Standards.

2. Consideration of the Codex General Standard for Food Additives.

3. Discussion Paper on the Use of Colours in Foods.

4. Discussion Paper on Processing Aids.

5. Proposed Draft Revision to the Codex General Standard for Irradiated Foods.

6. Specifications for the Identity and Purity of Food Additives Arising from the 53rd JECFA Meeting.

7. Proposed Amendments to the International Numbering System.

Contaminants

1. Endorsement and/or Revision of Maximum Levels for Contaminants in Codex Standards.

2. Consideration of the Codex General Standard for Contaminants and Toxins in Foods.

3. Methodology and Principles for Exposure Assessment in the Codex General Standard for Contaminants and Toxins in Foods.

4. Mycotoxins in Food and Feed:

(a) Aflatoxin M1 in Milk

(b) Ochratoxin A in Cereals

(c) Zearalenone

(d) Patulin

(e) Fumonisins.

5. Industrial and Environmental Contaminants in Foods:

(a) Proposed Draft Code of Practice for Source Directed Measures to Reduce Contamination of Food with Chemicals

(b) Lead

(c) Cadmium

(d) Dioxins.

General Issues

1. Proposals for Priority Evaluation of Food Additives and Contaminants by JECFA.

2. Other Business and Future Work:

(a) Comments on Methods of Analysis for the Determination of Food Additives and Contaminants in Foods.

(b) Comments on the Inventory of Processing Aids.

(c) Comments on Packaging Provisions to Maintain the Stability of Iodized Salt in the Codex Standard for Food Grade Salt.

Each issue listed will be fully described in documents distributed, or to be distributed, by Commission Secretariat or by The Netherlands' Secretariat to the Meeting. Members of the public may review copies of these documents (see ADDRESSES).

Public Meeting

At the February 4, 2000, public meeting, the agenda items will be described, discussed, and attendees will have the opportunity to pose questions and offer comments.

Additional Public Notification

Public awareness of all segments of rulemaking and policy development are important. Consequently, in an effort to better ensure that minorities, women, and persons with disabilities are aware of this public meeting notice, FSIS will announce it and provide copies of this Federal Register publication in the FSIS Constituent Update. FSIS provides a weekly FSIS Constituent Update, which is communicated via fax to over 300 organizations and individuals. In addition, the update is available on line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on: January 19, 2000.
F. Edward Scarbrough,
U.S. Manager for Codex Alimentarius.

[FR Doc. 00-1663 Filed 1-21-00; 8:45 am]

BILLING CODE 3410-DM-P